Proclamation 10818 of September 27, 2024

Gold Star Mother's and Family's Day, 2024

By the President of the United States of America

A Proclamation

On this solemn day, we honor the memories of the patriots who served our Nation, defended our freedom, and made the ultimate sacrifice for our country. We hold close to our hearts the Gold Star mothers and fathers, wives and husbands, sisters and brothers, daughters and sons, and other loved ones, who grieve their loss and carry on their legacy. And we recommit to fulfilling our sacred obligation to care for all of our Gold Star families.

Each of our service members is a link in the chain of honor that stretches back to the founding days of our Nation. They are bound not just by their bravery but also by their commitment to an idea unlike any other in human history: the idea of the United States of America. Decade after decade, our service members have fought for our freedom and the freedom of others because they knew that freedom has never been guaranteed. And just as our fallen heroes have kept the ultimate faith in our country and our democracy, we must keep faith in them.

To everyone who has loved and lost someone in the service of our country and to everyone with a loved one still missing or unaccounted for, I know how hard these days of remembrance can be. No matter how much time has passed or how much pride you have in their legacy, the grief and the hurt never fully go away. The First Lady and I are keeping all Gold Star families in our prayers. Since I took office, I have signed over 30 bipartisan laws supporting service members and veterans as well as their families, caregivers, and survivors. And I will continue to do everything I can to support our Gold Star families, to whom our Nation owes a debt of gratitude we can never fully repay.

Today, we join Gold Star families in their grief and express our gratitude: gratitude to our fallen heroes, gratitude for the sacrifices of the families left behind, and gratitude to the brave souls who continue to uphold the flame of liberty all across our country and around the world. Because of them, our country stands today. As we honor Gold Star Mother's and Family's Day, we recommit to making a more perfect Union, for which our fallen heroes lived and died. That is our promise.

The Congress, by Senate Joint Resolution 115 of June 23, 1936 (49 Stat. 1895 as amended), has designated the last Sunday in September as “Gold Star Mother's Day.”

NOW, THEREFORE, I, JOSEPH R. BIDEN JR., President of the United States of America, by virtue of the authority vested in me by the Constitution and the laws of the United States, do hereby proclaim Sunday, September 29, 2024, as Gold Star Mother's and Family's Day. I call upon all Government officials to display the flag of the United States over Government buildings on this special day. I also encourage the American people to display the flag and hold appropriate ceremonies as a public expression of our Nation's gratitude and respect for our Gold Star Mothers and Families.

IN WITNESS WHEREOF, I have hereunto set my hand this twenty-seventh day of September, in the year of our Lord two thousand twenty-four, and of the Independence of the United States of America the two hundred and forty-ninth.

[FR Doc. 2024-22944

Filed 10-1-24; 11:15 am]

Billing code 3395-F4-P